DEPARTMENT OF HOMELAND SECURITY

Federal Emergency Management Agency

[FEMA-1430-DR]

Commonwealth of the Northern Mariana Islands; Amendment No. 1 to Notice of a Major Disaster Declaration

AGENCY: Department of Homeland Security, Emergency Preparedness and Response Directorate, Federal Emergency Management Agency (FEMA).

ACTION: Notice.

SUMMARY: This notice amends the notice of a major disaster for the Commonwealth of the Northern Mariana Islands, (FEMA-1430-DR), dated August 6, 2002, and related determinations.

EFFECTIVE DATE: March 11, 2003.

FOR FURTHER INFORMATION CONTACT: Magda Ruiz, Recovery Division, Federal Emergency Management Agency, Washington, DC 20472, (202) 646-2705.

SUPPLEMENTARY INFORMATION: Notice is hereby given that special conditions are warranted regarding the cost-sharing arrangements concerning Federal funds provided under the authority of Robert T. Stafford Disaster Relief and Emergency Assistance Act, 42 U.S.C. 5121-5206 (Stafford Act). Therefore, consistent with the Insular Areas Act, 48 U.S.C. 1469a(d), and the President's declaration letter dated August 6, 2002, Federal funds for the Public Assistance and Hazard Mitigation Grant Programs are authorized at 90 percent of total eligible costs for the Commonwealth of the Northern Mariana Islands.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Michael D. Brown,
Acting Under Secretary, Emergency Preparedness and Response, Department of Homeland Security.

[FR Doc. 03-8075 Filed 4-2-03; 8:45 am]

BILLING CODE 6718-02-P